NATIONAL SCIENCE FOUNDATION

Agency Information Collection Activities: Proposed Collection; Comment Request

AGENCY: National Science Foundation.

ACTION: Notice and request for comments.

SUMMARY: Under the Paperwork Reduction Act of 1995, and as part of its continuing effort to reduce paperwork and respondent burden, the National Center for Science and Engineering Statistics (NCSES) within the National Science Foundation (NSF) is inviting the general public or other Federal agencies to comment on this proposed continuing information collection. The NCSES will publish periodic summaries of the proposed projects.

DATES: Written comments on this notice must be received by December 28, 2018 to be assured consideration. Comments received after that date will be considered to the extent practicable. Send comments to the address listed in FOR FURTHER INFORMATION CONTACT.

FOR FURTHER INFORMATION CONTACT: Suzanne H. Plimpton, Reports Clearance Officer, National Science Foundation, 2415 Eisenhower Avenue, Suite W18253, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Comments: Comments are invited on (a) whether the proposed collection of information is necessary for the proper performance of the functions of the NCSES, including whether the information will have practical utility; (b) the accuracy of the NCSES's estimate of the burden of the proposed collection of information; (c) ways to enhance the quality, utility, and clarity of the information to be collected, including through the use of automated collection techniques or other forms of information technology; and (d) ways to minimize the burden of the collection of information on those who are to respond, including through the use of appropriate automated collection techniques or other forms of information technology.

Title of Collection: Survey of Earned Doctorates.

OMB Approval Number: 3145-0019.

Expiration Date of Approval: May 31, 2020.

Type of Request: Intent to seek approval to renew an information collection for three years.

Abstract: Established within NSF by the America COMPETES Reauthorization Act of 2010 § 505, codified in the NSF Act of 1950, as amended, NCSES serves as a central Federal clearinghouse for the collection, interpretation, analysis, and dissemination of objective data on science, engineering, technology, and research and development for use by practitioners, researchers, policymakers, and the public.

The Survey of Earned Doctorates (SED) is part of NCSES' survey system that collects data on individuals in an effort to provide information on science and engineering education and careers in the United States. The SED has been conducted annually since 1958 and is jointly sponsored by the National Science Foundation, National Institutes of Health, U.S. Department of Education, and National Endowment for the Humanities in order to avoid duplication. It is an accurate, timely source of information on one of our Nation's most important resources—highly educated individuals.

Data are obtained primarily via Web survey from each person earning a research doctorate at the time they receive the degree. Data are collected on their field of specialty, educational background, sources of support in graduate school, debt level, postgraduation plans, and demographic characteristics. The Federal government, universities, researchers, and others use the information extensively. NCSES publishes statistics from the survey in several reports, primarily in the annual publication series Doctorate Recipients from U.S. Universities. These reports are available on the NCSES website. The survey will be collected in conformance with the Privacy Act of 1974. Responses from individuals are voluntary. NCSES will ensure that all individually identifiable information collected will be kept strictly confidential and will be used only for research or statistical purposes.

Use of the Information: Results from the SED are used to assess characteristics of the doctorate population and trends in doctoral education and degrees by researchers, policy makers, universities, and government agencies. Data from the survey are published annually on the NCSES website in a publication series reporting on all fields of study, titled Doctorate Recipients from U.S. Universities. Information from the SED is also included in other series available online: Science and Engineering Indicators; and Women, Minorities, and Persons with Disabilities in Science and Engineering. In addition, access to tabular data from selected variables is available through Integrated Data Tool, an online table-generating tool on the NCSES website.

Expected Respondents: The SED is a census of all individuals receiving a research doctorate from an accredited U.S. academic institution in the academic year beginning 1 July and ending 30 June of the subsequent year. As such, the population for the 2020 SED consists of all individuals receiving a research doctorate in the 12-month period beginning 1 July 2019 and ending 30 June 2020. Likewise, the population for the 2021 SED consists of all individuals receiving a research doctorate in the 12-month period beginning 1 July 2020 and ending 30 June 2021. A research doctorate is a doctoral degree that (1) requires completion of an original intellectual contribution in the form of a dissertation or an equivalent culminating project (e.g., musical composition) and (2) is not primarily intended as a degree for the practice of a profession. The most common research doctorate degree is the Ph.D. Recipients of professional doctoral degrees, such as MD, DDS, JD, DPharm, and PsyD, are not included in the SED. The 2020 and 2021 SED are expected to include about 606 separately reporting doctoral programs from among approximately 446 eligible research doctorate-granting institutions.

Estimate of Burden: A total response rate of 91.4% of the 54,664 persons who earned a research doctorate from a U.S. institution was obtained in academic year 2017. This level of response rate has been consistent for several years. Based on the historical trend, in 2020 approximately 58,000 individuals are expected to receive research doctorates from U.S. institutions. Using the past response rate, the number of SED respondents in 2020 is estimated to be 52,780 (58,000 doctorate recipients × 0.91 response rate). Similarly, the number of individuals expected to earn research doctorates in 2021 is estimated to be about 59,000; hence, the number of respondents in 2021 is estimated to be 53,690 (59,000 × 0.91).

Based on the average Web survey completion time for the 2018 SED (19 minutes) and the extension of a few questions to an additional subset of respondents, NCSES estimates that, on average, 21 minutes per respondent will be required to complete the 2020 or 2021 SED questionnaire. The annual respondent burden for completing the SED is therefore estimated at 18,473 hours in 2020 (52,780 respondents × 21 minutes) and 18,792 hours in 2021 (based on 53,690 respondents). In addition to the actual questionnaire, the SED requires the collection of administrative data from participating academic institutions. The Institutional Coordinator at the institution helps distribute the Web survey link (and paper surveys when necessary), track survey completions, and submit information to the SED survey contractor. Based on focus groups conducted with Institutional Coordinators, it is estimated that the SED demands no more than 1% of the Institutional Coordinator's time over the course of a year, which computes to 20 hours per year per Institutional Coordinator (40 hours per week × 50 weeks per year × .01). With about 606 programs expected to participate in the SED in 2020 and 2021, the estimated annual burden to Institutional Coordinators of administering the SED is 12,120 hours. Therefore, the total annual information burden for the SED is estimated to be 30,593 (18,473 + 12,120) hours in 2020 and 30,912 (18,792 + 12,120) hours in 2021.

Dated: October 24, 2018.
Suzanne H. Plimpton,
Reports Clearance Officer, National Science Foundation.

[FR Doc. 2018-23561 Filed 10-26-18; 8:45 am]

BILLING CODE 7555-01-P